DEPARTMENT OF HOMELAND SECURITY

[DHS-2016-0058]

Homeland Security Information Network Advisory Committee; Meeting

AGENCY: Mission Services Support Division (MSSD)/Information Sharing and Services Organization (IS2O)/Office of Chief Information Officer (OCIO).

ACTION: Committee Management; Notice of Federal Advisory Committee Meeting.

SUMMARY: The Homeland Security Information Network Advisory Committee (HSINAC) calls a full body, in-person meeting of its membership to receive all relevant information and facilitate development of recommendations to the HSIN Program Management Office (PMO) in the major issue area of developing Focused Mission Growth outcome measures.

DATES: The HSINAC will meet Wednesday, September 14, 2016 from 8:30 a.m.—5:00 p.m. EST and Thursday, September 15, 2016 from 8:30 a.m.—1:00 p.m. PM EST in Washington, DC, and via conference call and HSIN Connect, an online web-conferencing tool, both of which will be made available to members of the general public. Please note that the meeting may end early if the committee has completed its business.

ADDRESSES: The meeting will be held in Washington, DC at 650 Massachusetts Avenue NW., 4th floor Conference Room and virtually via HSIN Connect, an online web-conferencing tool at https://share.dhs.gov/hsinac, and available via teleconference at 1-800-320-4330 Conference Pin: 372094 for all public audience members. To access the web conferencing tool, go to https://share.dhs.gov/hsinac, click on “enter as a guest,” type in your name as a guest, and click “submit.” The teleconference lines will be open for the public and the meeting brief will be posted beforehand on the Federal Register site (https://www.federalregister.gov/). If the Federal government is closed, the meeting will be rescheduled.

For information on facilities or services for individuals with disabilities or to request special assistance at the meeting, contact Allison Buchinski, allison.buchinski@associates.dhs.gov, 202-343-4277, as soon as possible.

To facilitate public participation, we are inviting public comment on the issues to be considered by the committee. Comments must be submitted in writing no later than September 18, must be identified by the docket number—DHS-2016-0058, and may be submitted by one of the following methods:

• Federal eRulemaking Portal: http://www.regulations.gov. Follow the instructions for submitting comments.

• Email: Allison Buchinski, allison.buchinski@associates.hq.dhs.gov. Also include the docket number in the subject line of the message.

• Fax: 202-447-3111

• Mail: Allison Buchinski, Department of Homeland Security, OPS CIO-D Stop 0426, 245 Murray Lane SW., BLDG 410, Washington, DC 20528-0426.

Instructions: All submissions received must include the words “Department of Homeland Security” and the docket number (DHS-2016-0058) for this action. Comments received will be posted without alteration at http://www.regulations.gov, including any personal information provided.

Docket: For access to the docket to read background documents or comments received by the HSINAC go to http://www.regulations.gov and type the docket number of DHS-2016-0058 into the “search” field at the top right of the Web site.

A public comment period will be held during the meeting on Wednesday, September 14, from 4:30 p.m. to 4:45 p.m. EST and again on Thursday, September 15, from 11:00 a.m. to 11:15 a.m. EST. Speakers are requested to limit their comments to three minutes. Please note that the public comment period may end before the time indicated, following the last call for comments. Contact one of the individuals listed below to register as a speaker.

FOR FURTHER INFORMATION CONTACT: Designated Federal Officer, Michael Brody, Email: Michael.brody@hq.dhs.gov, and Phone: 202-282-9464.

SUPPLEMENTARY INFORMATION: The Homeland Security Information Network Advisory Committee is an advisory body to the HSIN Program Office. This committee provides advice and recommendations to the DHS on matters relating to HSIN. These matters include system requirements, operating policies, community organization, knowledge management, interoperability and federation with other systems, and any other aspect of HSIN that supports the operations of DHS and its Federal, State, territorial, local, tribal, international, and private sector mission partners. Notice of this meeting is given under the Federal Advisory Committee Act, 5 U.S.C. appendix. The HSINAC provides advice and recommendations to DHS on matters relating to HSIN.

Agenda

The Agenda will consist of the following major components.

1. There will be a discussion between the HSIN Program and members of the committee in the following key areas:

a. Homeland Security Information Network Advisory Committee Members receive HSIN PMO updates on key issues, and offer critical feedback, guidance, and formulation of recommendations for future program enhancements. This update will include an Introduction to the alignment of HSIN under the Information Sharing Services Organization (IS2O), as well as, strategic update on HSIN's progresses, challenges, and future plans in FY17.

b. Members will partake in a session about the Program's goals to enhance the quality of the HSIN user experience while adding mission value, and discuss operational gaps that exist between State and local and the department through a feedback session with the group and members of the HSIN Executive Steering Committee (ESC).

c. HSIN Annual Assessment—Members partake in a short focus group session to assist in the development of a communications and outreach coordination schedule that includes partner-focused success stories illustrating HSIN's role in fulfilling its mission to be the central provider of information sharing capabilities that allow for collaboration, situational awareness, and information exchange to fulfill partner's homeland security mission areas.

2. The HSIN PMO will formally task the HSINAC to offer recommendation on the following key topics:

a. How HSIN can continue to achieve growth in its user base, across Federal, State, local, territorial, tribal, private sector, and international sectors through the advancement and/or addition of mission critical applications.

b. What steps the Program can take to ensure ease of access to the system through a seamless registration process.

c. How the Program can continue to support growth of the user population and advancement of field operations by defining mission advocate support staffing models.

3. Public comment period on both days.

4. Committee Deliberation.

5. Closing Remarks.

6. Adjournment of the meeting.

Dated: August 11, 2016.
James Lanoue,
HSIN Program Director.

[FR Doc. 2016-19661 Filed 8-17-16; 8:45 am]

BILLING CODE 9110-9B-P